DEPARTMENT OF EDUCATION

Notice of Submission for OMB Review

Correction

In notice document 2011-10723 appearing on pages 24868-24869 in the issue of May 3, 2011, make the following correction:

On page 24868, in the third column, under the DATES heading, in the second and third lines “[insert the 30th day after publication of this notice]” should read “June 2, 2011”.

[FR Doc. C1-2011-10723 Filed 5-6-11; 8:45 am]

BILLING CODE 1505-01-D